DEPARTMENT OF AGRICULTURE

Food Safety and Inspection Service

[Docket No. FSIS-2023-0027]

Notice of Request for a New Information Collection: Web-Based Surveys

AGENCY: Food Safety and Inspection Service (FSIS), U.S. Department of Agriculture (USDA).

ACTION: Notice and request for comments.

SUMMARY: In accordance with the Paperwork Reduction Act of 1995 and Office of Management and Budget (OMB) regulations, FSIS is announcing its intention to collect information using web surveys to test new labels for safe handling of raw and partially cooked meat and poultry products. This is a new information collection with 3,550 hours.

DATES: Submit comments on or before February 13, 2024.

ADDRESSES: FSIS invites interested persons to submit comments on this Federal Register notice. Comments may be submitted by one of the following methods:

• Federal eRulemaking Portal: This website provides commenters the ability to type short comments directly into the comment field on the web page or to attach a file for lengthier comments. Go to https://www.regulations.gov. Follow the on-line instructions at that site for submitting comments.

• Mail: Send to Docket Clerk, U.S. Department of Agriculture, Food Safety and Inspection Service, 1400 Independence Avenue SW, Mailstop 3758, Washington, DC 20250-3700.

• Hand- or courier-delivered submittals: Deliver to 1400 Independence Avenue SW, Jamie L. Whitten Building, Room 350-E, Washington, DC 20250-3700.

Instructions: All items submitted by mail or electronic mail must include the Agency name and docket number FSIS-2023-0027. Comments received in response to this docket will be made available for public inspection and posted without change, including any personal information, to https://www.regulations.gov.

Docket: For access to background documents or comments received, call 202-720-5046 to schedule a time to visit the FSIS Docket Room at 1400 Independence Avenue SW, Washington, DC 20250-3700.

FOR FURTHER INFORMATION CONTACT: Gina Kouba, Office of Policy and Program Development, Food Safety and Inspection Service, USDA, 1400 Independence Avenue SW, Mailstop 3758, South Building, Washington, DC 20250-3700; 202-720-5046.

SUPPLEMENTARY INFORMATION:

Title: Consumer Labeling Research Web-based Surveys.

OMB Number: 0583-NEW.

Type of Request: Request for a new information collection.

Abstract: FSIS has been delegated the authority to exercise the functions of the Secretary (7 CFR 2.18 and 2.53), as specified in the Federal Meat Inspection Act (FMIA) (21 U.S.C. 601, et seq.), the Poultry Products Inspection Act (PPIA) (21 U.S.C. 451, et seq.), and the Egg Products Inspection Act (EPIA) (21 U.S.C. 1031, et seq.). These statutes mandate that FSIS protect the public by verifying that meat, poultry, and egg products are safe, wholesome, and properly labeled.

Safe handling instructions (SHI) are required on the labels of raw or partially cooked (i.e., not considered ready to eat) meat and poultry products if the product is destined for household consumers or institutional uses (9 CFR 317.2(l) and 9 CFR 381.125(b)). FSIS has required the SHI label for raw and partially cooked meat and poultry products since 1994 (59 FR 40209).

In response to inquiries from consumer groups and other stakeholders about potential changes to SHI requirements, FSIS gathered input from members of academia, industry, and consumer stakeholders concerning the label in November 2013. FSIS presented the results of the input in the form of suggestions to the National Advisory Committee on Meat and Poultry Inspection (NACMPI) in January 2014. The NACMPI Subcommittee on Food Handling Labels recommended that FSIS pursue changes in the existing SHI label and conduct consumer research to determine the effectiveness of any revisions to the SHI label.

In 2015, FSIS conducted six consumer focus groups (OMB No. 0583-0166; 11/30/2017) to evaluate understanding of the current SHI label and responses to possible revisions. The results from the focus groups suggested that consumers would find certain revisions to the SHI label useful. Participants recommended changes to improve consumer comprehension and adherence to recommended safe handling practices (e.g., add recommendations to use a food thermometer and endpoint temperatures for different cuts of meat and poultry). Based on the results of these focus groups, FSIS determined that additional research using more rigorous, quantitative approaches with a larger sample of consumers was needed. FSIS also surmised this research would help inform potential revisions to the current SHI label and assess whether a label revision would improve consumer food safety behaviors.

In 2020, FSIS completed a study that comprised a web-based experimental survey and an experimental behavior change study that included meal preparation in a test kitchen environment, eye tracking, and in-depth interviews to design and evaluate potential revised SHI labels (OMB No. 0583-0177; 4/30/2022). For this study, FSIS created new labels based on recommendations from NACMPI, which focused on updating the existing text and icons in the current SHI label and adding information on recommended internal minimum temperatures for different cuts of meat and poultry. This study found that the three labels tested did not perform better than the current SHI label with regard to visual saliency (i.e., noticeability) and behavior change for the safe handling practices displayed on the label (e.g., using a food thermometer or washing hands with soap and water for 20 seconds and then drying) (final report available at https://www.fsis.usda.gov/sites/default/files/media_file/2022-02/SHI_Behavior_Change_Study%20Final%20Report_9_23_20.pdf).

Consumer groups and other stakeholders have continued to advocate for improved labeling for raw and partially cooked meat and poultry products. In response, FSIS is pursuing research to create and assess consumer responses to new labeling not included in previous studies. FSIS plans to start with a “blank slate” (i.e., freely develop the label with no restrictions, ideas, or characteristics instead of simply revising the current SHI label). To do this FSIS will take into consideration recent research via a literature review and input from key stakeholders and experts via listening sessions.

In December 2022 and January 2023, through a contractor, FSIS conducted listening sessions with consumer groups; representatives from the meat and poultry industry; and experts in health communications, food science, and food safety education to collect information on factors to consider when creating new labeling for raw and partially cooked meat and poultry products. Additionally, a literature review was conducted to identify and summarize best practices for label design for attracting attention and motivating behavior change and recommendations for label design based on human factors research. The findings from the listening sessions and literature review were used for the current study to create new labels for safe handling of raw and partially cooked meat and poultry products.

FSIS plans to use an iterative approach with multiple rounds of consumer research to obtain feedback on the new label designs and make refinements during the study. In Phase 1, the new label designs are being tested in consumer focus groups to obtain qualitative feedback on the labels, and the findings will be used to refine the label design and messaging. In accordance with the Paperwork Reduction Act, FSIS published a 60-day notice (88 FR 30713 May 12, 2023) and a 30-day notice requesting comments regarding this information collection request (88 FR 65359 September 22, 2023). The Agency received no comments, and the information collection request is currently being reviewed by OMB.

In Phase 2, the revised label designs will be tested in an exploratory web survey, and the quantitative findings from this survey will be used to revise and prepare the final labels for testing in a web-based experimental survey to identify the top performing labels based on the outcomes of interest, such as noticeability, changed food safety-related beliefs, and induced thinking about the risks of contracting foodborne illness. In Phase 3, an observation study will be conducted in experimental test kitchens to obtain empirical evidence on the label design that is most effective at encouraging consumers to follow recommended safe handling practices for raw and partially cooked meat and poultry products and will include the use of eye tracking to measure visual saliency for the new labels compared with the control, the current SHI label.

FSIS is requesting approval for a new information collection to conduct Phase 2, consumer web-based surveys. Phase 2 is a new information collection with 3,550 hours. FSIS plans to submit an additional information collection request for approval of Phase 3, the observation studies.

FSIS has contracted with RTI International to conduct the Phase 2 web-based surveys. FSIS will use the exploratory web survey to refine the labeling format, layout, design features (e.g., icons, colors), and messaging and to collect other information such as awareness of the current SHI and risk perceptions of contracting foodborne illness. The exploratory survey will be important for testing and refining the labels for understanding, readability, visual receptivity, and perceived effectiveness.

The experimental survey will use a limited time exposure (LTE) experiment to measure label saliency (i.e., noticeability) and identify the top performing labels. Respondents will be randomly assigned to 1 of 10 conditions (up to 9 test labels and the current SHI label). A mock meat or poultry product bearing the assigned label will be briefly displayed on the screen (e.g., 20 seconds), and respondents will be asked to recall whether specific text or images were present on the label. Using statistical analysis, we can determine the relative saliency of the labels tested. Additionally, we will ask a series of questions to measure other outcomes, such as whether the labels provided new information, induced thinking about the risks of contracting foodborne illness, and changed food safety-related beliefs.

To administer the surveys, RTI will partner with Kantar's Lightspeed Global Market Insite Panel, an opt-in panel. RTI will use quotas to ensure that the survey respondents mirror the demographics of the U.S. population (e.g., age, education level, race, ethnicity) based on the most recent Census data. Kantar will conduct a pilot for each survey, 50 respondents for the exploratory survey and 100 respondents for the experimental survey. For the full-scale survey, Kantar will select samples that are sufficient to yield 1,000 respondents for the exploratory survey and 2,400 respondents for the experimental survey.

Kantar will conduct a separate set of cognitive interviews for the survey instruments for the exploratory and experimental surveys. Up to nine cognitive interviews will be conducted to evaluate and refine each survey instrument before receiving OMB approval. After receiving OMB approval, Kantar will conduct separate pilot studies for the exploratory and web-based surveys to ensure that the programming logic for the online survey is correct before the full-scale study is implemented.

Estimate of Burden: For the pilot for the exploratory survey, it is expected that 1,000 panel members selected by Kantar will receive email invitations and that 50 of the eligible panel members will subsequently complete the questionnaire. For the full-scale study, it is expected that 20,000 panel members selected by Kantar will receive email invitations and that 1,000 of the eligible panel members will subsequently complete the questionnaire. The email invitations for the pilot and full-scale study are expected to take 2 minutes to read. The exploratory survey is expected to take 20 minutes to complete.

For the pilot for the experimental survey, it is expected that 2,000 panel members selected by Kantar will receive email invitations and that 100 of the eligible panel members will subsequently complete the questionnaire. For the full-scale study, it is expected that 48,000 panel members selected by Kantar will receive email invitations and that 2,400 of the eligible panel members will subsequently complete the questionnaire. The email invitations for the pilot and the full-scale study are expected to take 2 minutes to read. The exploratory survey is expected to take 20 minutes to complete.

The total estimated burden of the web-based surveys are 3,550 hours (1,050.00 hours for the exploratory survey and 2,500 hours for the experimental survey).

Estimated Annual Reporting Burden for the Exploratory Survey
Study component | Sample size | Freq | Responses: Count | Responses: Freq X count | Responses: Min/ resp | Responses: Burden hours | Non-responses: Count | Non-responses: Freq X count | Non-responses: Min/ resp | Non-responses: Burden hours | Total burden hours
Pilot: |  |  |  |  |  |  |  |  |  |  |
Email invitation | 1,000 | 1 | 50 | 50 | 2 | 1.67 | 950 | 950 | 2 | 31.67 | 33.34
Questionnaire | 50 | 1 | ᵃ 50 | 50 | 20 | 16.67 | 0 | 0 | 0 | 0 | 16.67
Full-Scale: |  |  |  |  |  |  |  |  |  |  |
Email invitation | 20,000 | 1 | 1,000 | 1,000 | 2 | 33.33 | 19,000 | 19,000 | 2 | 633.33 | 666.66
Questionnaire | 1,000 | 1 | ᵃ 1,000 | 1,000 | 20 | 333.33 | 0 | 0 | 0 | 0 | 333.33
Total Burden hours |  |  |  |  |  |  |  |  |  |  | 1,050.00
ᵃ A subset of the people who received the invitation.

Estimated Annual Reporting Burden for the Experimental Survey
Study component | Sample size | Freq | Responses: Count | Responses: Freq X count | Responses: Min/ resp | Responses: Burden hours | Non-responses: Count | Non-responses: Freq X count | Non-responses: Min/ resp | Non-responses: Burden hours | Total burden hours
Pilot: |  |  |  |  |  |  |  |  |  |  |
Email invitation | 2,000 | 1 | 100 | 100 | 2 | 3.33 | 1,900 | 1,900 | 2 | 63.33 | 66.66
Questionnaire | 100 | 1 | ᵃ 100 | 100 | 20 | 33.33 | 0 | 0 | 0 | 0 | 33.33
Full-Scale: |  |  |  |  |  |  |  |  |  |  |
Email invitation | 48,000 | 1 | 2,400 | 2,400 | 2 | 80.00 | 45,600 | 45,600 | 2 | 1,520 | 1,600
Questionnaire | 2,400 | 1 | ᵃ 2,400 | 2,400 | 20 | 800.00 | 0 | 0 | 0 | 0 | 800
Total Burden hours |  |  |  |  |  |  |  |  |  |  | 2,499.99
ᵃ A subset of the people who received the invitation.

Respondents: Consumers.

Estimated No. of Respondents: 3,550.

Estimated No. of Annual Responses per Respondent: 1.

Estimated Total Burden: 3,550 hours.

All responses to this notice will be summarized and included in the request for OMB approval. All comments will also become a matter of public record. Copies of this information collection assessment can be obtained from Gina Kouba, Office of Policy and Program Development, Food Safety and Inspection Service, USDA, 1400 Independence Avenue SW, Mailstop 3758, South Building, Washington, DC 20250-3700; (202) 937-4272.

Comments are invited on: (a) whether the proposed collection of information is necessary for the proper performance of FSIS' functions, including whether the information will have practical utility; (b) the accuracy of FSIS' estimate of the burden of the proposed collection of information, including the validity of the method and assumptions used; (c) ways to enhance the quality, utility, and clarity of the information to be collected; and (d) ways to minimize the burden of the collection of information, including through the use of appropriate automated, electronic, mechanical, or other technological collection techniques, or other forms of information technology. Comments may be sent to both FSIS, at the addresses provided above, and the Desk Officer for Agriculture, Office of Information and Regulatory Affairs, Office of Management and Budget (OMB), Washington, DC 20253.

Additional Public Notification

Public awareness of all segments of rulemaking and policy development is important. Consequently, FSIS will announce this Federal Register publication on-line through the FSIS web page located at: https://www.fsis.usda.gov/federal-register.

FSIS will also announce and provide a link to this Federal Register publication through the FSIS Constituent Update, which is used to provide information regarding FSIS policies, procedures, regulations, Federal Register notices, FSIS public meetings, and other types of information that could affect or would be of interest to our constituents and stakeholders. The Constituent Update is available on the FSIS web page. Through the web page, FSIS can provide information to a much broader, more diverse audience. In addition, FSIS offers an email subscription service which provides automatic and customized access to selected food safety news and information. This service is available at: https://www.fsis.usda.gov/subscribe. Options range from recalls to export information, regulations, directives, and notices. Customers can add or delete subscriptions themselves and have the option to password protect their accounts.

USDA Non-Discrimination Statement

In accordance with Federal civil rights law and USDA civil rights regulations and policies, USDA, its Mission Areas, agencies, staff offices, employees, and institutions participating in or administering USDA programs are prohibited from discriminating based on race, color, national origin, religion, sex, gender identity (including gender expression), sexual orientation, disability, age, marital status, family/parental status, income derived from a public assistance program, political beliefs, or reprisal or retaliation for prior civil rights activity, in any program or activity conducted or funded by USDA (not all bases apply to all programs). Remedies and complaint filing deadlines vary by program or incident.

Program information may be made available in languages other than English. Persons with disabilities who require alternative means of communication to obtain program information (e.g., Braille, large print, audiotape, American Sign Language) should contact the responsible Mission Area, agency, or staff office; the USDA TARGET Center at (202) 720-2600 (voice and TTY); or the Federal Relay Service at (800) 877-8339.

To file a program discrimination complaint, a complainant should complete a Form AD-3027, USDA Program Discrimination Complaint Form, which can be obtained online at https://www.usda.gov/forms/electronic-forms, from any USDA office, by calling (866) 632-9992, or by writing a letter addressed to USDA. The letter must contain the complainant's name, address, telephone number, and a written description of the alleged discriminatory action in sufficient detail to inform the Assistant Secretary for Civil Rights (ASCR) about the nature and date of an alleged civil rights violation. The completed AD-3027 form or letter must be submitted to USDA by:

(1) Mail: U.S. Department of Agriculture Office of the Assistant Secretary for Civil Rights 1400 Independence Avenue SW, Washington, DC 20250-9410;

(2) Fax: (833) 256-1665 or (202) 690-7442; or

(3) Email: program.intake@usda.gov.

USDA is an equal opportunity provider, employer, and lender.

Paul Kiecker,
Administrator.

[FR Doc. 2023-27602 Filed 12-14-23; 8:45 am]

BILLING CODE 3410-DM-P